DEPARTMENT OF TRANSPORTATION

Federal Aviation Administration

14 CFR Part 39

[Docket No. FAA-2013-0477; Directorate Identifier 2011-SW-015-AD; Amendment 39-17780; AD 2014-05-07]

RIN 2120-AA64

Airworthiness Directives; Airbus Helicopters (Type Certificate Previously Held by Eurocopter France) (Airbus Helicopters)

AGENCY: Federal Aviation Administration (FAA), DOT.

ACTION: Final rule.

SUMMARY: We are superseding airworthiness directive (AD) 2010-11-51 for Eurocopter France (Eurocopter) Model AS350B, BA, B1, B2, C, D, and D1 helicopters and Model AS355E, F, F1, F2, and N helicopters with certain part-numbered tail gearbox (TGB) control levers installed. AD 2010-11-51 required repetitive visual inspections of the TGB control lever for a crack and replacing a cracked TGB control lever with an airworthy TGB control lever. This new AD retains the requirements of AD 2010-11-51 and also requires inspecting other areas of the TGB control lever not previously inspected and at additional inspection intervals. This AD was prompted by several reports of cracking in a TGB control lever. The actions of this AD are intended to prevent failure of the TGB control lever, loss of tail rotor control, and subsequent loss of control of the helicopter.

DATES: This AD is effective April 15, 2014.

The Director of the Federal Register approved the incorporation by reference of certain publications listed in this AD as of April 15, 2014.

ADDRESSES: For service information identified in this AD, contact Airbus Helicopters, Inc., 2701 N. Forum Drive, Grand Prairie, TX 75052; telephone (972) 641-0000 or (800) 232-0323; fax (972) 641-3775; or at http://www.airbushelicopters.com/techpub. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, the European Aviation Safety Agency (EASA) AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Robert Grant, Aviation Safety Engineer, Rotorcraft Directorate, Safety Management Group, 2601 Meacham Blvd., Fort Worth, TX 76137, telephone 817-222-5110, email robert.grant@faa.gov.

SUPPLEMENTARY INFORMATION:

Discussion

We issued a notice of proposed rulemaking (NPRM) to amend 14 CFR part 39 to supersede AD 2010-11-51, Amendment 39-16396 (75 FR 50874, August 18, 2010). AD 2010-11-51 applied to Eurocopter Model AS350B, BA, B1, B2, C, D, and D1 helicopters and Model AS355E, F, F1, F2, and N helicopters with certain part-numbered tail gearbox (TGB) control levers installed. The NPRM published in the Federal Register on June 17, 2013 (78 FR 36129). The NPRM proposed to retain the requirements in AD 2010-11-51 to perform repetitive visual inspections in a certain area on each TGB control lever not marked with an “X” and to replace a cracked part. Also, the NPRM proposed to require inspecting another area of each TGB control lever at additional intervals. The NPRM also proposed replacing each TGB control lever with a reworked TGB control lever marked with an “X” near the P/N or with a TGB control lever with a P/N not listed in the applicability of the AD. The proposed requirements were intended to prevent failure of the TGB control lever, loss of tail rotor control, and subsequent loss of control of the helicopter.

The NPRM was prompted by Emergency AD No. 2011-0038-E, dated March 4, 2011 (AD No. 2011-0038-E), issued by EASA, which is the Technical Agent for the Member States of the European Union, to correct an unsafe condition for the Eurocopter Model AS350B, BA, BB, B1, B2, and D, and AS355E, F, F1, F2, and N helicopters. Emergency AD No. 2011-0038-E superseded EASA Emergency AD No. 2010-0082-E, dated April 27, 2010 (AD No. 2010-0082-E). EASA advises that since issuing its Emergency AD No. 2010-0082-E, Eurocopter found additional cracks opposite the required inspection area on the affected control levers. EASA Emergency AD No. 2011-0038-E retains the requirements of EASA Emergency AD No. 2010-082-E and adds repetitive inspections for the area opposite the control levers.

Since we issued the NPRM, Eurocopter France changed its name to Airbus Helicopters. This AD reflects that change and updates the contact information to obtain service documentation.

Comments

We gave the public the opportunity to participate in developing this AD, but we did not receive any comments on the NPRM (78 FR 36129, June 17, 2013).

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs and that air safety and the public interest require adopting the AD requirements as proposed except for the name change previously described and correcting the date referenced for Revision 2 of the Eurocopter Emergency Alert Service Bulletin (EASB). These changes are consistent with the intent of the proposals in the NPRM (78 FR 36129, June 17, 2013) and will not increase the economic burden on any operator nor increase the scope of the AD.

Differences Between This AD and the EASA AD

This AD differs from EASA Emergency AD No. 2011-0038-E as follows:

• We include the Model AS350C and AS350D1 helicopters that may contain the affected TGB control lever. We do not include the Model AS350BB helicopter because it is not type-certificated in the United States.

• We do not require an “after last flight”of the day inspection.

• We do not allow a pilot to inspect for a crack.

• We do not require reworking noninstalled control levers.

• We do not include a calendar compliance time for reworking the TGB control lever if there is not a crack.

• We do not require you to contact Eurocopter (now Airbus Helicopters) if a crack is found during any inspection.

Related Service Information

Eurocopter issued one EASB, Revision 2, dated March 1, 2011, with four different numbers. EASB No. 05.00.62 is for Model AS350 helicopters; EASB No. 05.00.57 is for Model AS355 helicopters; EASB No. 05.00.38 is for military Model AS550 helicopters; and EASB No. 05.00.35 is for military Model AS555 helicopters. The military models are not type-certificated in the United States. The EASB specifies visually inspecting the TGB control lever for a crack at the last flight of each day, without exceeding 10 flying hours between inspections. The EASB also specifies a rework procedure for affected TGB control levers, to be done within 660 flying hours and no later than June 30, 2011, indicated by marking the control lever with a letter “X.” EASA classified this EASB as mandatory and issued AD No. 2011-0038-E to ensure the continued airworthiness of these helicopters.

Costs of Compliance

We estimate that this AD will affect 791 helicopters of U.S. registry. We estimate that operators may incur the following costs in order to comply with this AD. The inspections for a crack in the TGB control lever will take a minimal amount of time. Replacing a control lever will take about 3 work hours at an average labor rate of $85 per work hour. Required parts will cost about $2,103 per helicopter. Based on these figures, we estimate the total cost of the AD on U.S. operators to be $2,358 per helicopter to replace the control lever.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2010-11-51, Amendment 39-16396 (75 FR 50874, August 18, 2010), and adding the following new AD:

2014-05-07 Airbus Helicopters (Type Certificate Previously Held by Eurocopter France): Amendment 39-17780; FAA-2013-0477; Directorate Identifier 2011-SW-015-AD.

(a) Applicability

This AD applies to Model AS350B, BA, B1, B2, C, D, and D1 helicopters and Model AS355E, F, F1, F2, and N helicopters, with a tail gearbox (TGB) control lever, part number (P/N) 350A33-1058-00, P/N 350A33-1058-01, P/N 350A33-1058-02, or P/N 350A33-1058-03, both with and without an “X” marked near the P/N, installed, certificated in any category.

(b) Unsafe Condition

This AD defines the unsafe condition as a crack in the TGB control lever. This condition could result in failure of the TGB control lever, loss of tail rotor control, and subsequent loss of control of the helicopter.

(c) Affected ADs

This AD supersedes AD 2010-11-51, Amendment 39-16396 (75 FR 50874, August 18, 2010).

(d) Effective Date

This AD becomes effective April 15, 2014.

(e) Compliance

You are responsible for performing each action required by this AD within the specified compliance time unless it has already been accomplished prior to that time.

(f) Required Actions

(1) For helicopters with a lever not marked with an “X” near the P/N, within 10 hours time-in-service (TIS), and thereafter at intervals not to exceed 10 hours TIS, using a mirror and appropriate light source, visually inspect the TGB control lever for a crack as shown in area “A” of Figure 2 of Eurocopter Emergency Alert Service Bulletin No. 05.00.62, Revision 2, dated March 1, 2011 (EASB No. 05.00.62), for Model AS350 helicopters, and Eurocopter Emergency Alert Service Bulletin No. 05.00.57, Revision 2, dated March 1, 2011 (EASB No. 05.00.57), for Model AS355 helicopters. If there is a crack, before further flight, replace each cracked TGB control lever with a TGB control lever with a P/N not listed in paragraph (a) of this AD.

(2) For Model AS355N helicopters, within 110 hours TIS, or if the helicopter has reached 100 or more hours TIS, within the next 10 hours TIS, and thereafter at intervals not to exceed 110 hours TIS, using a mirror and appropriate light source, inspect each TGB control lever for a crack as shown in area “C” of Figure 8 of EASB No. 05.00.62 or EASB No. 05.00.57, as applicable to your model helicopter.

(3) Within 660 hours TIS, replace each TGB control lever with a reworked TGB control lever marked with an “X” near the P/N or with a TGB control lever with a P/N not listed in paragraph (a) of this AD.

(4) For all model helicopters except Model AS355N, within 660 hours TIS, or if the helicopter has reached 605 or more hours TIS within the next 55 hours TIS, and thereafter at intervals not to exceed 660 hours TIS, using a mirror and appropriate light source, inspect each TGB control lever for a crack as shown in area “C” of Figure 8 of EASB No. 05.00.62 or EASB No. 05.00.57, as applicable to your model helicopter.

(5) If there is a crack, before further flight, replace each cracked TGB control lever with a TGB control lever with a P/N not listed in paragraph (a) of this AD.

(g) Alternative Methods of Compliance (AMOCs)

(1) The Manager, Safety Management Group, FAA, may approve AMOCs for this AD. Send your proposal to: Robert Grant, Aviation Safety Engineer, FAA, Rotorcraft Directorate, Safety Management Group, 2601 Meacham Blvd., Fort Worth, TX 76137, telephone (817) 222-5110, email robert.grant@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Related Information

The subject of this AD is addressed in European Aviation Safety Agency (EASA) Emergency AD No. 2011-0038-E, dated March 4, 2011, and superseded EASA Emergency AD No. 2010-0082-E, dated April 27, 2010. You may view the EASA AD on the Internet at http://www.regulations.gov in Docket No. FAA-2013-0477.

(i) Subject

Joint Aircraft Service Component (JASC) Code: 6720 Tail Rotor Control System.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Eurocopter Emergency Alert Service Bulletin (EASB), No. 05.00.62,

Revision 2, dated March 1, 2011.

(ii) Eurocopter EASB No. 05.00.57, Revision 2, dated March 1, 2011.

Note 1 to paragraph (j)(2): Eurocopter EASB No. 05.00.62, Revision 2, dated March 1, 2011, and Eurocopter EASB No. 05.00.57, Revision 2, dated March 1, 2011, are co-published as one document along with Eurocopter EASB No. 05.00.38, Revision 2, dated March 1, 2011, and Eurocopter EASB No. 05.00.35, Revision 2, dated March 1, 2011, which are not incorporated by reference in this AD.

(3) For Eurocopter service information identified in this AD, contact Airbus Helicopters, Inc., 2701 N. Forum Drive, Grand Prairie, TX 75052; telephone (972) 641-0000 or (800) 232-0323; fax (972) 641-3775; or at http://www.airbushelicopters.com/techpub.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on February 26, 2014.
Bruce E. Cain,
Acting Directorate Manager, Rotorcraft Directorate, Aircraft Certification Service.

[FR Doc. 2014-04729 Filed 3-10-14; 8:45 am]

BILLING CODE 4910-13-P